Title 3—

The President

Memorandum of October 5, 2015

Delegation of Authority Under Sections 110(c) and (d)(4) of the Trafficking Victims Protection Act of 2000

Memorandum for the Secretary of State

By the authority vested in me as President by the Constitution and the laws of the United States of America, including section 301 of title 3, United States Code, I hereby delegate to the Secretary of State the authority under section 110(d)(4) of the Trafficking Victims Protection Act of 2000 (the “Act”) (22 U.S.C. 7107(d)(4)) to waive the application of the prohibition in section 110(d)(1)(A)(i) of the Act to Yemen during Fiscal Year 2016, as applicable, and to make the determinations necessary for such waiver. I hereby also delegate to the Secretary of State the authority under section 110(c) of the Act to notify the appropriate congressional committees of such waiver and the justification for granting such waiver.

You are hereby authorized and directed to publish this memorandum in the Federal Register.

THE WHITE HOUSE,

Washington, October 5, 2015

[FR Doc. 2015-27460

Filed 10-26-15; 8:45 am]

Billing code 4710-10-P